DEPARTMENT OF JUSTICE

Notice of Lodging of Proposed Consent Decree Under the Clean Air Act

On November 30, 2012, the Department of Justice lodged a proposed consent decree with the United States District Court for the Northern District of Ohio in the lawsuit entitled United States and the Oklahoma Department of Environmental Quality v. Owens-Brockway Glass Container Inc., Civil Action No. 3:12-cv-02961.

The United States and Oklahoma Department of Environmental Quality filed this lawsuit under the Clean Air Act. The complaint seeks injunctive relief and civil penalties for violations of the Clean Air Act's Prevention of Significant Deterioration and Non-Attainment New Source Review requirements at five glass manufacturing plants owned and operated by the defendant, Owens-Brockway Glass Container Inc., in Clarion, Pennsylvania; Crenshaw, Pennsylvania; Muskogee, Oklahoma; Waco, Texas; and Atlanta, Georgia. The consent decree requires the defendant to perform injunctive relief, pay a $1,450,000 civil penalty, and perform a $200,000 “diesel-retrofit” mitigation project in the metropolitan Atlanta area.

The publication of this notice opens a period for public comment on the proposed consent decree. Comments should be addressed to the Assistant Attorney General, Environment and Natural Resources Division, and should refer to United States and the Oklahoma Department of Environmental Quality v. Owens-Brockway Glass Container Inc., D.J. Ref. No. 90-5-2-1-09678. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $34.00 (25 cents per page reproduction cost) payable to the United States Treasury. For a paper copy without the exhibits and signature pages, the cost is $16.75.

Maureen M. Katz,
Assistant Section Chief, Environmental Enforcement Section, Environment and Natural Resources Division.

[FR Doc. 2012-29515 Filed 12-5-12; 8:45 am]

BILLING CODE 4410-15-P